DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance
[10/12/2010 through 10/28/2010]
Firm name | Address | Date accepted for investigation | Products
A.J. Rose Manufacturing Company | 38000 Chester Road, Avon, OH 44011 | 10/14/2010 | The firm is a manufacturer of precision metal stamped, welded, spun, over molded and machined components.
Berkline/BenchCraft, LLC | 1 Berkline Dr., Morristown, TN 37813 | 10/14/2010 | The firm produces upholstered household furniture. The primary manufacturing material is wood, fabric, metal & leather.
Lake Country Woodworkers Ltd | P.O. Box 400, 12 Clark St., Naples, NY 14512 | 10/28/2010 | The firm produces hardwood furniture for office and bathrooms including conference tables, occasional tables, reception stations, vanities and credenzas.
Lloyd & McKenzie Ltd. Co | 619 Pine Ridge Road, P.O. Box 1338, Chester, SC 29706 | 10/21/2010 | The firm produces laminated fabric; primary materials include fabric and water-based polymeric compounds.
Stainless Fabrication, Inc | 4455 W. Kearney Street, Springfield, MO 65801 | 10/13/2010 | The firm performs in-house and field fabrications of stainless steel single and double wall tanks and processing equipment including: Mixers, reactors, pressure and storage vessels, with up to 600K gallon capacity.
The Rose Corporation | 401 North 8th Street, Reading, PA 19601 | 10/12/2010 | The firm is a custom manufacturer of warm air heating and air conditions equipment and supplies and industrial equipment.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: October 28, 2010.
Miriam J. Kearse,
Program Team Lead.

[FR Doc. 2010-27798 Filed 11-2-10; 8:45 am]

BILLING CODE 3510-24-P